DEPARTMENT OF DEFENSE

Department of the Army; Corps of Engineers

Notice of Intent/NEPA Scoping Meeting and Public Comment Period for the Chesapeake Bay Native Oyster Recovery Program, Virginia

AGENCY: Department of the Army, U.S. Army Corps of Engineers, DoD.

ACTION: Notice.

SUMMARY: Pursuant to the requirements of section 102(2)(C) of the National Environmental Policy Act (NEPA) of 1969, as implemented by the Council on Environmental Quality Regulations, the U.S. Army Corps of Engineers (USACE) plans to prepare an Environmental Impact Statement (EIS) to evaluate environmental impacts from reasonable alternatives and to determine the potential for significant impacts related to implementation of the Chesapeake Native Oyster Recovery Program in the Commonwealth of Virginia.

DATES: Scoping comments will be accepted until March 1, 2019.

ADDRESSES: The public was invited to submit written comments at the meeting and/or to Ms. Kimberly Koelsch, Department of the Army, U.S. Army Corps of Engineers, Norfolk District, Planning Branch, Environmental Analysis Section (CENAO-WR-PE), Norfolk, VA 23510 or via email to kimberly.c.koelsch@usace.army.mil.

FOR FURTHER INFORMATION CONTACT: Ms. Kimberly Koelsch, 757-201-7837.

SUPPLEMENTARY INFORMATION: The Chesapeake Native Oyster Recovery Program is authorized by Section 704(b) of the Water Resources Development Act (WRDA) of 1986. USACE Norfolk District executes the Oyster Recovery Program in the Commonwealth of Virginia to achieve goals set by the Chesapeake Bay Protection and Restoration Executive Order.

Utilizing existing information, current technologies, research and population dynamics, the Chesapeake Bay Native Oyster Recovery Program will identify restoration strategies in each tributary. The actions and recommendations needed to restore native populations of oysters in Virginia tributaries, potential techniques and potential impacts will be identified and evaluated prior to construction, pursuant to the National Environmental Policy Act.

Scoping/Public Involvement: The NEPA Public Scoping meeting was held at the Great Neck Library, 1251 Bayne Drive, Virginia Beach, VA 23454 on January 10, 2019 from 4:30 until 6:30 p.m. Federal, state, and local agencies, and the public were invited to provide scoping comments and to identify issues and potentially significant effects to be considered in the analysis.

Brenda S. Bowen,
Army Federal Register Liaison Officer.

[FR Doc. 2019-00697 Filed 1-31-19; 8:45 am]

BILLING CODE 3720-58-P